DEPARTMENT OF HEALTH AND HUMAN SERVICES

Centers for Disease Control and Prevention

[60Day-07-07BO]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

State of Pennsylvania Fire and Life Safety Public Education Survey—New—Division of Unintentional Injury, National Center for Injury Prevention and Control (NCIPC), Centers for Disease Control and Prevention (CDC).

Background and Brief Description

This project will involve conducting a statewide survey of Pennsylvania fire departments to identify current fire and life safety education programs, resources, and training needs. Survey findings will be used to develop an inventory of programs and resources, and to inform future training programs for fire and life safety educators in Pennsylvania. In the United States each year, there are approximately 400,000 residential fires, with 14,000 non-fatal and 3,000 fatal civilian injuries. In line with Healthy People 2010 objectives, National Center of Injury Prevention and Control (NCIPC) works to reduce and eliminate non-fatal and fatal injuries from residential fires.

The survey will be conducted with fire departments in Pennsylvania. The 2007 National Directory of Fire Chiefs & EMS Administrators lists all fire departments in Pennsylvania along with their contact information. Fire departments will be asked to complete a 35-item survey either on-line or by returning a paper survey. It is expected that 1,000 fire departments will complete the 30 minute survey, which is designed to collect information on the scope and content of educational programs and activities, training needs, and barriers to fire and life safety education. An initial mailing (and e-mail if e-mail address exists) to the fire chief of each fire department will include a postcard describing the study and instructing them how to submit the survey. Fire departments that have not completed the survey and have not declined will be sent a reminder postcard and will receive a follow-up telephone call.

There are no costs to respondents except for their time to participate in the surveys.

Estimated Annualized Burden Hours
Respondents | Number of respondents | Number of responses per respondent | Average burden per response (in hours) | Total burden (in hours)
Fire Departments—Completed survey | 1,000 | 1 | 30/60 | 500
Total |  |  |  | 500

Dated: July 31, 2007.
Marilyn S. Radke,
Reports Clearance Officer, Centers for Disease Control and Prevention.

[FR Doc. E7-15218 Filed 8-3-07; 8:45 am]

BILLING CODE 4163-18-P >